DEPARTMENT OF ENERGY

Bonneville Power Administration

Bonneville Power Administration's Record of Decision for Service to Direct Service Industrial (DSI) Customers for Fiscal Years 2007-2011

AGENCY: Bonneville Power Administration (BPA), Department of Energy.

ACTION: Notice of final policy.

SUMMARY: On February 4, 2005, BPA issued a final policy and record of decision (ROD) regarding how the agency will market power and distribute the costs and benefits of the Federal Columbia River Power System (FCRPS) in the Pacific Northwest for fiscal years (FY) 2007-2011. This policy and ROD included a decision to provide eligible Pacific Northwest direct service industries (DSIs) with service at a known and capped cost in FY 2007-2011, with the level of benefits to be decided in a follow-up public process. Also on February 4, 2005, BPA sent a letter to Customers, Constituents, Tribes, and Other Regional Stakeholders that presented a straw proposal for DSI service and announced the additional public process to take further comment regarding the appropriate benefit level for DSI service and how BPA should provide the benefit. An open forum discussing this issue was held March 1, 2005, in Portland, Oregon. The comment period on the straw proposal outlined in the letter closed March 11, 2005. BPA has now issued a ROD on DSI service. This ROD establishes the level of service benefits BPA will offer the DSI customers for FY 2007-2011, allocates the benefits among eligible companies and establishes the mechanism(s) that would be used to deliver benefits.

DATES: On June 30, 2005, the BPA signed the ROD for DSI service for FY 2007-2011.

ADDRESSES: The ROD is available on BPA's Record of Decision Web site at http://www.bpa.gov/corporate/pubs/RODS/2005/ and BPA's Regional Dialogue Web site: http://www.bpa.gov/power/regionaldialogue. Copies are also available by contacting BPA's Public Information Center at (800) 622-4520.

FOR FURTHER INFORMATION CONTACT: Contact Scott Wilson, Customer Account Executive, Bulk Marketing and Transmission Service, at (503) 230-7638, for information regarding the ROD on service to DSIs for FY 2007-2011. Contact Helen Goodwin, Regional Dialogue project manager, for more information on the Regional Dialogue process, at (503) 230-3129.

Issued in Portland, Oregon on June 30, 2005.
Stephen J. Wright,
Administrator and Chief Executive Officer, Bonneville Power Administration.

[FR Doc. 05-13940 Filed 7-14-05; 8:45 am]

BILLING CODE 6450-01-P